FEDERAL COMMUNICATIONS COMMISSION

Sunshine Act Meeting, Open Commission Meeting, Thursday, March 10, 2005

March 3, 2005.

The Federal Communications Commission will hold an Open Meeting on the subjects listed below on Thursday, March 10, 2005, which is scheduled to commence at in Room TW-C305, at 445 12th Street, SW., Washington, DC.

Item No. | Bureau | Subject
1 | Consumer & Governmental Affairs | Title: Truth-in-Billing and Billing Format (CC Docket No. 98-170) and National Association of State Utility Consumer Advocates' Petition for Declaratory Ruling Regarding Truth-in-Billing (CG Docket No. 04-208).
|  | Summary: The Commission will consider a Second Report and Order, Declaratory Ruling, and Second Further Notice of Proposed Rulemaking regarding the truth-in-billing rules and a related petition for declaratory ruling filed by the National Association of State Utility Consumer Advocates.
2 | Office of Engineering and Technology Wireless and Tele-Communications | Title: Wireless Operations in the 3650-3700 MHz Band (ET Docket No. 04-151); Wireless Operations in the 3650-3700 MHz Band; Additional Spectrum for Unlicensed Devices Below 900 MHz and in the 3 GHz Band (ET Docket No. 02-380); and Amendment of the Commission's Rules with Regard to the 3650-3700 MHz Government Transfer Band (ET Docket No. 98-237).
|  | Summary: The Commission will consider a Report and Order and Memorandum Opinion and Order concerning the use of the 3650-3700 MHz Band.
3 | Office of Engineering and Technology | Title: Facilitating Opportunities for Flexible, Efficient, and Reliable Spectrum Use Employing Cognitive Radio Technologies (ET Docket No. 03-108).
|  | Summary: The Commission will consider a Report and Order on the use of cognitive radio technologies to facilitate opportunities for more flexible, efficient, and reliable spectrum use.
4 | Office of Engineering and Technology | Title: Petition for Waiver of the Part 15 UWB Regulations Filed by the Multi-band OFDM Alliance Special Interest Group (ET Docket No. 04-352).
|  | Summary: The Commission will consider an Order concerning UWB Transmitters that operate under Part 15 rules.
5 | Wireline Competition | Title: The Use of N11 Codes and Other Abbreviated Dialing Arrangements (CC Docket No. 92-105).
|  | Summary: The Commission will consider an Order designating 811 as the national abbreviated dialing code to be used by state One Call notification systems for providing advanced notice of excavation activities to underground facility operators in compliance with the Pipeline Safety Improvement Act of 2002.

* * * * *

Consent Agenda

The Commission will consider the following subjects listed below as a consent agenda and these items will not be presented individually:

1 | Enforcement | Title: Enforcement of Sections 201 and 258 of the Act.
|  | Summary: The Commission will consider action concerning an investigation into compliance with the Commission's slamming rules.
2 | Enforcement | Title: C&W Communications, Inc., Licensee of Private Land Mobile Stations WNJB566 and KNBV420; Steve Gill, Licensee of Private Land Mobile Station WNEC236; Radio Service Company, Licensee of Private Land Mobile Stations WPBB209, WNXZ684, and WNXZ686; and Fresno Mobile Radio, Inc., Licensee of Private Land Mobile Stations WYY797, WYY798, WYY799, KNDC491, and WNA511.
|  | Summary: The Commission will consider an action concerning an Application for Review filed by Nextel Communications, Inc. and Nextel Partners, Inc. of an Enforcement Bureau decision denying Nextel's requests for the commencement of license revocation proceedings against Private Land Mobile licensees C&W Communications, Inc. and its owner, Steve Gill, Radio Service Company, and Fresno Mobile Radio, Inc.
3 | International | Title: 2000 Biennial Regulatory Review—Streamlining and Other Revisions of Part 25 of the Commission's Rules Governing the Licensing of, and Spectrum Usage by, Satellite Network Earth Stations and Space Stations (IB Docket No. 00-248) and Amendment of Part 25 of the Commission's Rules and Regulations to Reduce Alien Carrier Interference Between Fixed-Satellite at Application Procedures for Satellite Communication Services (CC Docket No. 86-496).
|  | Summary: The Commission will consider a Fifth Report and Order in IB Docket No. 00-248, and Third Report and Order in CC Docket No. 86-496 concerning streamlining the procedures for reviewing non-routine earth station applications.
4 | International | Title: 2000 Biennial Regulatory Review—Streamlining and Other Revisions of Part 25 of the Commission's Rules Governing the Licensing of, and Spectrum Usage by, Satellite Network Earth Stations and Space Stations (IB Docket No. 00-248).
|  | Summary: The Commission will consider a Sixth Report, Order, and Third Further Notice of Proposed Rulemaking concerning revisions to its earth station antenna gain pattern requirements, and the establishment of an off-axis EIRP envelope for Earth Stations in the Fixed Satellite Service.
5 | Media | Title: Amendment of Section 73.202(b), Table of Allotments, FM Broadcast Stations, (Alva, Mooreland, Tishomingo, Tuttle and Woodward, Oklahoma) (MM Docket No. 98-155, RM-9082, and RM-9133).
|  | Summary: The Commission will consider a Memorandum Opinion and Order concerning an Application for Review filed by Ralph Tyler seeking review of a decision by the Mass Media Bureau denying a request to reallot Channel 259C3 to Tuttle, Oklahoma.
6 | Media | Title: Birach Broadcasting Corporation, Request to Toll the Period to Construct Unbuilt Station WIJR(AM) Palm Beach Gardens, Florida.
|  | Summary: The Commission will consider an Order on Reconsideration concerning an Application for Review filed by Birach Broadcasting Corp. seeking review of a decision by the Commission to affirm a denial of Birach's request for additional time to construct unbuilt station WIJR(AM).
7 | Media | Title: KEGG Communications, Inc., Licensee of Station K216EQ, Daingerfield, Texas, and Application for Construction Permit for a New Noncommercial Educational FM Station in Daingerfield, Texas.
|  | Summary: The Commission will consider action concerning an application filed by KEGG Communications, Inc. for a construction permit for a new noncommercial educational FM station in Daingerfield, Texas, and materials relating to KEGG Communications' operation of NCE translator station K216EQ, Daingerfield, Texas.
8 | Media | Title: DTV Build-out, Requests for Extension of the Digital Television Construction Deadline, Commercial Television Stations with May 1, 2002 Deadline.
|  | Summary: The Commission will consider an Order concerning applications filed by commercial television stations seeking extensions of the May 1, 2002 deadline for construction of their digital television facilities.
9 | Media | Title: DTV Build-out, Requests for Extension of the Digital Television Construction Deadline, Noncommercial Educational Television Stations with May 1, 2003 Deadline.
|  | Summary: The Commission will consider an Order concerning applications filed by Noncommercial television stations seeking extensions of the May 1, 2003 deadline for construction of their digital television facilities.
10 | Office of Engineering Technology | Title: Amendment of Parts 2 and 90 of the Commission's Rules to Provide for Narrowband Private and Land Mobile Radio Channels in the 150.05-150.8 MHz, 162-174 MHz, and 406.1-420 MHz Bands that are Allocated for Federal Government Use (ET Docket No. 04-243).
|  | Summary: The Commission will consider a Report and Order concerning the procedures by which 40 Private Land Mobile Radio channels, which are located in frequency bands that are primarily allocated for Federal use, are to transition to narrower, more efficient channels in a process commonly known as “narrowbanding.”
11 | Office of Engineering and Technology | Title: Amendment of Parts 2, 25, and 73 of the Commission's Rules to Implement Decisions from the World Radiocommunication Conference (Geneva 2003) (WRC-03) Concerning Frequency Bands Between 5900 kHz and 27.5 GHz and to Otherwise Update the Rules in this Frequency Range (ET Docket No. 04-139).
|  | Summary: The Commission will consider a Report and Order concerning the use of Frequency Band Between 5900 kHz and 27.5 GHz Band.
12 | Wireline Competition | Title: Request to Update Default Compensation Rate for Dial-Around Calls from Payphones (WC Docket No. 03-225).
|  | Summary: The Commission will consider a Further Notice of Proposed Rulemaking that solicits data to enable the Commission to determine a current and accurate monthly average of compensable dial-around calls per-payphone for the purpose of establishing a monthly per-payphone default rate.
13 | Wireline Competition | Title: Application for Review of a Decision of the Wireline Competition Bureau, Mescalero Apache School, Mescalero, New Mexico; and Schools and Libraries Universal Service Support Mechanism (CC Docket No. 02-6).
|  | Summary: The Commission will consider an Order regarding an Application for Review of a decision issued by the Telecommunications Access Policy Division of the Wireline Competition Bureau.
14 | Wireline Competition | Title: 1993 Annual Access Tariff Filings, GSF Order Compliance Filings (CC Docket No. 93-193); 1994 Annual Access Tariff Filings, 1995 Annual Access Tariff Filings, and 1996 Annual Access Tariff Filings (CC Docket No. 94-65).
|  | Summary: The Commission will consider an Order on Review of a Common Carrier Bureau Order clarifying methods to be used by local exchange carriers to allocate refund and sharing amounts among price cap baskets.

The meeting site is fully accessible to people using wheelchairs or other mobility aids. Sign language interpreters, open captioning, and assistive listening devices will be provided on site. Request other reasonable accommodations for people with disabilities as early as possible. Last minute requests will be accepted, but may be impossible to fill. Send an e-mail to fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 05-4722 Filed 3-7-05; 12:43 pm]

BILLING CODE 6712-01-P